DEPARTMENT OF DEFENSE

Office of the Secretary

Defense Advisory Committee on Women in the Services; Notice of Federal Advisory Committee Meeting

AGENCY: Under Secretary of Defense for Personnel and Readiness, Department of Defense (DoD).

ACTION: Notice of Federal Advisory Committee meeting.

SUMMARY: The DoD is publishing this notice to announce that the following Federal Advisory Committee meeting of the Defense Advisory Committee on Women in the Services (DACOWITS) will take place.

DATES: Day 1—Open to the public Tuesday, September 1, 2020 from 9:00 a.m. to 12:00 p.m. Day 2—Open to the public Wednesday, September 2, 2020 from 9:00 a.m. to 12:30 p.m.

ADDRESSES: The meeting will be held by videoconference. Participant access information will be provided after registering. (Pre-meeting registration is required. See guidance in SUPPLEMENTARY INFORMATION, “Meeting Accessibility”).

FOR FURTHER INFORMATION CONTACT: COL Elaine Freeman, (571) 447-8151 (Voice), roelene.e.freeman.mil@mail.mil (Email). Website: https://dacowits.defense.gov. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Availability of Materials for the Meeting: Additional information, including the agenda or any updates to the agenda, is available at the DACOWITS website, https://dacowits.defense.gov/. Materials presented in the meeting may also be obtained on the DACOWITS website. Purpose of the Meeting: The purpose of the meeting is for the DACOWITS to receive written information and briefings on topics related to the recruitment, retention, employment, integration, well-being, and treatment of women in the Armed Forces of the United States. Agenda: Tuesday, September 1, 2020, from 9:00 a.m. to 12:00 p.m.—Welcome, Introductions, and Announcements; Request for Information Status Update; and Briefings and DACOWITS discussion. Wednesday, September 2, 2020, from 9:00 a.m. to 12:30 p.m.—Welcome, Introductions and Announcements; Awards Ceremony; and Committee Voting Session on 2020 Recommendations.

Meeting Accessibility: Pursuant to 5 U.S.C. 552b and 41 CFR 102-3.140 through 102-3.165, this meeting is open to the public from 9:00 a.m. to 12:00 p.m. on September 1, 2020 and 9:00 a.m. to 12:30 p.m. on September 2, 2020. The meeting will be held by videoconference. The number of participants is limited and is on a first-come basis. All members of the public who wish to participate must register by contacting DACOWITS at osd.pentagon.ousd-p-r.mbx.dacowits@mail.mil or by contacting Mr. Robert Bowling at (703) 380-0116 no later than Monday, August 24, 2020. Once registered, the web address and/or audio number will be provided.

Special Accommodations: Individuals requiring special accommodations to access the public meeting should contact Mr. Robert Bowling at (703) 380-0116 no later than Monday, August 24, 2020 so that appropriate arrangements can be made. Written Statements: Pursuant to 41 CFR 102-3.140, and section 10(a)(3) of the FACA, interested persons may submit a written statement to the DACOWITS. Individuals submitting a written statement must submit their statement no later than 5:00 p.m., Monday, August 24, 2020 to Mr. Robert Bowling (703) 380-0116 (Voice) or to osd.pentagon.ousd-p-r.mbx.dacowits@mail.mil (Email). If a statement is not received by Monday, August 24, 2020, prior to the meeting, which is the subject of this notice, then it may not be provided to or considered by the Committee during this quarterly business meeting. The DFO will review all timely submissions with the DACOWITS Chair and ensure they are provided to the members of the Committee.

Dated: August 11, 2020.
Aaron T. Siegel,
Alternate OSD Federal Register Liaison Officer, Department of Defense.

[FR Doc. 2020-17893 Filed 8-14-20; 8:45 am]

BILLING CODE 5001-06-P